AGENCY FOR INTERNATIONAL DEVELOPMENT

Board for International Food and Agricultural Development

One Hundred and Fifty-Fifth Meeting; Notice of Meeting

Pursuant to the Federal Advisory Committee Act, notice is hereby given of the one hundred and fifty-fifth meeting of the Board for International Food and Agricultural Development (BIFAD). The meeting will be held from 8:30 a.m. to 2:45 p.m. on October 14, 2008 at the Des Moines Marriott Hotel Downtown located at 700 Grand Avenue, Des Moines, Iowa. The meeting venue is in the Marriott Hotel's Iowa Ballroom, Salons A, B, and C located on the second floor. “Higher Education on a New Stage in Global Agricultural Development” is the theme of BIFAD's October's meeting.

Dr. Robert Easter, Chairman of BIFAD, will preside over the proceedings. Dr. Easter is Dean of the College of Agriculture, Consumer and Environment Sciences at the University of Illinois, Champaign-Urbana.

The morning session will include an overview of the BIFAD's Conference of Deans (CoD I) with observations and perspectives directed toward the planning of CoD II to be held in mid 2009. The theme for the first Conference of Deans was “Higher Education on a New Stage in Global Agricultural Development.” It was held on April 30, 2008. A White Paper with recommendations to USAID was prepared from the output of CoD I. These recommendations on the role of universities in supporting international development, especially with regard to food and agriculture, were presented by the Board to USAID Administrator Henrietta H. Fore on September 9, 2008 and they will be reviewed at the October 14, 2008 meeting.

The White Paper discussion will be followed by two presentations that will offer strategic and long-term perspectives on international agriculture. The first, an agri-business view will be presented by John Deere International; and the second, by Robert Thompson of the University of Illinois, will discuss an economist's view on mitigating the food crises. Capping the morning session, Irv Widders of Michigan State University, will moderate a panel of university deans and faculty to discuss ideas and ways of “Forming the University Brain Trust for International Agricultural Development” that can mobilize university capacities in collaboration with international agri-businesses and with BIFAD's leadership, to advise and assist USAID.

Following the Board's executive luncheon (closed to the public) the afternoon session shifts to technical topics. In keeping with the mandate of Title XII, a presentation on broadening opportunities for Title XII with USAID will be offered. Also in the afternoon, the FY 2007 Title XII Report will be presented by George Wilson of the USAID EGAT Bureau, Office of Agriculture. Sandra Russo, Chairman of the Strategic Partnership for Agricultural Research and Education (SPARE) will give updates on SPARE's review of actions on ADS-216 (USAID Higher Education Community Partnerships) and the Collaborative Research Support Programs (CRPSs) Guidelines. SPARE is BIFAD's analytical sub-committee. The meeting will adjourn at 2:45 p.m.

The Board meeting is open to the public. The Board welcomes open dialog to promote greater focus on critical issues facing USAID and international agriculture. Note on Public Comments: Due to time constraints, public comments to the Board will limited to two (2) minutes to accommodate as many as possible. The comments must be submitted ahead of the meeting and they must be in writing.

Those wishing to attend the meeting or obtain additional information about BIFAD should contact Dr. Ronald S. Senykoff, the Designated Federal Officer for BIFAD. Write him in care of the U.S. Agency for International Development, Ronald Reagan Building, Office of Agriculture, Bureau for Economic Growth, Agriculture and Trade, 1300 Pennsylvania Avenue, NW., Room 2.11-085, Washington DC, 20523-2110 or telephone him at (202) 712-0218 or fax (202) 216-3010.

Ronald S. Senykoff,
USAID Designated Federal Officer for BIFAD, Office of Agriculture and Food Security, Bureau for Economic Growth, Agriculture & Trade, U.S. Agency for International Development.

[FR Doc. E8-23100 Filed 10-1-08; 8:45 am]

BILLING CODE 6116-01-P